DEPARTMENT OF HEALTH AND HUMAN SERVICES

Office of the Secretary

Office of the National Coordinator for Health Information Technology; Delegation of Authority

Notice is hereby given that I have delegated to the National Coordinator for Health Information Technology (National Coordinator), or his or her successor, the authorities vested in the Secretary under Subtitle A of Title XXX of the Public Health Service Act (42 U.S.C. 201 et seq.), as amended, as specified under Section 3002 (with the exception of Section 3002(c)(2)(A)), Section 3003 (with the exception of Section 3003(c)(6)), and Sections 3004 and 3007, and under Sections 13111 and 13113, only with respect to the authority to administer studies related to the adoption of a nationwide system for the electronic use and exchange of health information and to the extent that it does not conflict with any other existing delegation, of the Health Information Technology for Economic and Clinical Health (HITECH) Act (42 U.S.C. 17901 and 17903), as amended, for the Promotion of Health Information Technology.

These authorities may be redelegated. I hereby affirm and ratify any actions taken by the National Coordinator or by any other officials of the Office of the National Coordinator for Health Information Technology, which, in effect, involved the exercise of these authorities delegated herein prior to the effective date of this delegation. This delegation is effective upon date of signature.

Dated: November 25, 2009.
Kathleen Sebelius,
Secretary.

[FR Doc. E9-29032 Filed 12-4-09; 8:45 am]

BILLING CODE 4150-24-P